DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by January 10, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Tom Stehn, Whooping Crane Recovery Plan Coordinator, U.S. Fish and Wildlife Service, Region 2, Austwell, TX, PRT-022747.

The applicant requests renewal of their permit to export/re-export captive-bred/captive hatched and wild live specimens, captive-bred/wild collected viable eggs, biological samples and salvaged materials from captive-bred/wild specimens of Whooping cranes (Grus americana) to Canada, for completion of identified tasks and objectives mandated under the Whooping Crane Recovery Plan. Salvage materials may include, but are not limited to, whole or partial specimens, feathers, eggs, and egg shell fragments. This notification covers activities to be conducted by the applicant over a five-year period.

Applicant: University of North Carolina at Wilmington, Wilmington, NC, PRT-168756.

The applicant requests a permit to export biological samples from Kemp's Ridley sea turtle (Lepidochelys kempii) to Ontario, Canada for the purpose of scientific research. This notification covers activities conducted by the applicant over a five-year period.

Applicant: Dr. Leslie Lyons, University of California, Davis, Davis, CA, PRT-154582

The applicant requests a permit to import biological samples from wild and captive born species of Felidae from various locations for the purpose of scientific research. This notification covers activities conducted by the applicant over a five-year period.

Applicant: Priour Brothers Ranch, Ingram, TX, PRT-707102

The applicant requests renewal of their permit which authorizes interstate and foreign commerce, export, and cull of excess animals of the following species: swamp deer (Cervus duvauceli), Eld's deer (Cervus eldi) and red lechwe (Kobus leche) from their captive herd for the purpose of enhancement of the survival of the species in the wild. This notification covers activities to be conducted by the applicant over a five-year period.

Endangered Marine Mammals and Marine Mammals

The public is invited to comment on the following applications for a permit to conduct certain activities with endangered marine mammals and/or marine mammals. The applications were submitted to satisfy requirements of the Endangered Species Act of 1973, as amended (16 U.S.C. 1531 et seq.) and/or the Marine Mammal Protection Act of 1972, as amended (16 U.S.C. 1361 et seq.), and the regulations governing endangered species (50 CFR Part 17) and/or marine mammals (50 CFR Part 18). Written data, comments, or requests for copies of the complete applications or requests for a public hearing on these applications should be submitted to the Director (address above). Anyone requesting a hearing should give specific reasons why a hearing would be appropriate. The holding of such a hearing is at the discretion of the Director.

Applicant: Monterey Bay Aquarium, Monterey, CA, PRT-032027

The applicant requests renewal and amendment of their permit to take up to 100 southern sea otters (Enhydra lutris nereis) annually by capturing and recapturing, tagging and instrumenting, taking biological samples, conducting non-invasive and minimally invasive experiments on captive-held animals, conducting birth control, rehabilitating stranded animals, releasing animals, and care and maintenance of animals deemed provisionally non-releasable and non-releasable for the purpose of scientific research and enhancement of the survival of the species. The applicant is also requesting authorization to export and re-import captive-held sea otters deemed non-releasable for the purpose of enhancement of the survival of the species. This notification covers activities to be conducted by the applicant over a five-year period.

Applicant: Beyond Bears, Inc., Frazier Park, CA, PRT-142439

The applicant requests a permit to import one female captive-born polar bear (Ursus maritimus) from Beyond Bears' facility in Abbotsford, British Columbia, Canada, for the purpose of public display.

Concurrent with the publication of this notice in the Federal Register, the Division of Management Authority is forwarding copies of the above applications to the Marine Mammal Commission and the Committee of Scientific Advisors for their review.

Dated: November 16, 2007.
Lisa J. Lierheimer,
Senior Permit Biologist, Branch of Permits, Division of Management Authority.

[FR Doc. E7-23952 Filed 12-10-07; 8:45 am]

BILLING CODE 4310-55-P